DEPARTMENT OF TRANSPORTATION

Surface Transportation Board

[Docket No. FD 35715 (Sub-No. 1)]

Norfolk Southern Railway Company—Temporary Trackage Rights Exemption—Grand Trunk Western Railroad Company and Wisconsin Central Ltd.

AGENCY: Surface Transportation Board, DOT.

ACTION: Partial revocation of exemption.

SUMMARY: Under 49 U.S.C. 10502, the Board revokes the class exemption as it pertains to the trackage rights described in Docket No. FD 35715 ¹ to permit the trackage rights to expire 24 months after the commencement date of the agreement, or the date that the Gary City Track Connection, which is located at or near Gary, Ind., is completed and in use, whichever comes first, in accordance with the agreement of the parties, subject to the employee protective conditions set forth in Oregon Short Line Railroad—Abandonment Portion Goshen Branch Between Firth & Ammon, in Bingham & Bonneville Counties, Idaho, 360 I.C.C. 91 (1979).

¹ In that docket, on January 28, 2013, NSR filed a verified notice of exemption under the Board's class exemption procedures at 49 CFR 1180.2(d)(7). The notice addressed an agreement in which Grand Trunk Western Railroad Company and Wisconsin Central Ltd. (collectively, CN) granted temporary overhead trackage rights to NSR over the CN rail lines located: (1) Between CN's connection with NSR at or near milepost 99.5 in South Bend, Ind., and at or near milepost 36.1 in Griffith, Ind., on CN's South Bend Subdivision, a distance of approximately 63.4 miles; and (2) between milepost 36.1 in Griffith and CN's Kirk Yard at or near milepost 45.4 in Gary on CN's Matteson Subdivision, a distance of approximately 9.3 miles. See Norfolk S. Ry.—Temporary Trackage Rights Exemption—Grand Trunk W. R.R., FD 35715 (STB served Feb. 13, 2013). NSR states that this notice was not filed under the Board's class exemption for temporary trackage rights at 49 CFR 1180.2(d)(8) because the agreement contemplates that the temporary trackage rights will be in effect for more than one year. See 49 CFR 1180.2(d)(8) (“Acquisition of temporary trackage rights by a rail carrier over lines owned or operated by any other rail carrier or carriers that are * * * scheduled to expire on a specific date not to exceed 1 year from the effective date of the exemption.”) At that time, NSR also filed for the instant partial revocation of the class exemption in this proceeding. In the February 13, 2013 notice, the Board stated that it would address that request in a subsequent decision, which it is doing here.

DATES: This decision is effective on April 18, 2013. Petitions to stay must be filed by March 29, 2013. Petitions for reconsideration must be filed by April 8, 2013.

ADDRESSES: Send an original and 10 copies of all pleadings, referring to Docket No. FD 35715 (Sub-No. 1) to: Surface Transportation Board, 395 E Street SW., Washington, DC 20423-0001. In addition, a copy of each pleading must be served on NSR's representative: Christine I. Friedman, Norfolk Southern Railway Company, Three Commercial Place, Norfolk, VA 23510.

FOR FURTHER INFORMATION CONTACT: Valerie Quinn (202) 245-0382. Assistance for the hearing impaired is available through the Federal Information Relay Service (FIRS) at (800) 877-8339.

SUPPLEMENTARY INFORMATION: Additional information is contained in the Board's decision. Board decisions and notices are available on our Web site at www.stb.dot.gov.

Decided: March 13, 2013.
By the Board, Chairman Elliott, Vice Chairman Begeman, and Commissioner Mulvey.
Jeffrey Herzig,
Clearance Clerk.

[FR Doc. 2013-06313 Filed 3-18-13; 8:45 am]

BILLING CODE 4915-01-P